DEPARTMENT OF THE INTERIOR

Geological Survey

[GX18GL00DT7ST00; OMB Control Number 1028-0087]

Agency Information Collection Activities: National Geological and Geophysical Data Preservation Program (NGGDPP) Grant Opportunity

AGENCY: U.S. Geological Survey, Interior.

ACTION: Notice of information collection; request for comment.

SUMMARY: In accordance with the Paperwork Reduction Act of 1995, the U.S. Geological Survey (USGS) is proposing to renew authorization for information collection from state geological surveys that request NGGDPP funds to preserve geoscience materials and data.

DATES: Interested persons are invited to submit comments on or before June 18, 2018.

ADDRESSES: Send your comments on the information collection request (ICR) by mail to the U.S. Geological Survey, Information Collections Clearance Officer, 12201 Sunrise Valley Drive, MS 159, Reston, VA 20192; or by email to gs-info_collections@usgs.gov. Please reference OMB Control Number 1028-0087 in the subject line of your comments.

FOR FURTHER INFORMATION CONTACT: To request additional information about this ICR, contact U.S. Geological Survey Information Collection Clearance Officer by email at gs-info_collections@usgs.gov, or by telephone at 510-504-0481.

SUPPLEMENTARY INFORMATION: We, the USGS, in accordance with the Paperwork Reduction Act of 1995, provide the general public and other Federal agencies with an opportunity to comment on proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Abstract: This notice concerns the collection of information to inform evaluation and selection of proposals for NGGDPP funding. Annual NGGDPP data preservation priorities are provided in the Program Announcement. Proposals are accepted from state geological surveys requesting funds to inventory, preserve, and make publicly available geoscience collections and data. Financial assistance is awarded annually on a competitive basis following the evaluation and ranking of state proposals by a review panel composed of representatives from the Department of the Interior, state geological surveys, and academic and museum institutions. Since its inception in 2007, NGGDPP has awarded 46 states $7,043,000, which, when matched or exceeded by the states, amounts to over $14 million invested in the rescue and preservation of valuable geoscientific samples and data for research. To submit a proposal, respondents must complete a project narrative and submit the application via www.grants.gov. Grant recipients must complete a final technical report at the end of the project period. Narrative and report guidance is available at http://datapreservation.usgs.gov and in the Program Announcement. Information provided by respondents is proprietary under the Freedom of Information Act (5 U.S.C. 552), implementation regulations (43 CFR part 2), and data and information public disclosure limitations (30 CFR 250.197). Responses are voluntary. Information about NGGDPP-funded projects conducted by state geological surveys is available to the public at http://datapreservation.usgs.gov.

Title of Collection: National Geological and Geophysical Data Preservation Program (NGGDPP) Grant Announcement Opportunity.

OMB Control Number: 1028-0087.

Form Number: NA.

Type of Review: Extension of a currently approved collection.

Respondents/Affected Public: All state geological surveys may apply for NGGDPP grants.

Total Estimated Number of Annual Respondents: 35.

Total Estimated Number of Annual Responses: 70 (35 applications, 35 final technical report submissions).

Estimated Completion Time per Response: Grant application time estimate is 80 hours; final technical report completion time estimate is 10 hours.

Total Estimated Number of Annual Burden Hours: 3,150.

Respondent's Obligation: Required to Obtain a Benefit.

Frequency of Collection: Annually.

Total Estimated Annual Non-hour Burden Cost: None.

An agency may not conduct or sponsor and a person is not required to respond to a collection of information unless it displays a currently valid OMB control number.

The authorities for this action are the Paperwork Reduction Act of 1995 (44 U.S.C. 3501, et seq.).

Lindsay Powers,
NGGDPP Coordinator.

[FR Doc. 2018-08084 Filed 4-17-18; 8:45 am]

BILLING CODE 4338-11-P